DEPARTMENT OF DEFENSE

Department of the Navy

Record of Decision for the Final Environmental Impact Statement for Shock Trial of WINSTON S. CHURCHILL (DDG 81)

SUMMARY: The Department of the Navy (Navy), pursuant to Section 102(2)(C) of the National Environmental Policy Act (NEPA) of 1969, 42 U.S.C. 4321 et seq.; the regulations implementing NEPA issued by the Council on Environmental Quality (CEQ), 40 Code of Federal Regulations (CFR) Parts 1500-1508; Navy regulations implementing NEPA procedures (31 CFR 775); and Executive Order 12114, “Environmental Effects Abroad of Major Federal Actions”; hereby announces its selection of the area of the Atlantic Ocean offshore of Mayport Naval Station, Jacksonville, Florida for the WINSTON S. CHURCHILL shock trial. NEPA sets out the procedures Federal agencies must follow in analyzing environmental impacts of major Federal actions within U.S. territory. Executive Order 12114 sets out the procedures Federal agencies must follow in analyzing environmental impacts of major Federal actions occurring outside U.S. territory in the global commons or within the territory of another nation. The Navy was the lead agency and the National Marine Fisheries Service (NMFS) was a cooperating agency for the Environmental Impact Statement (EIS).

The WINSTON S. CHURCHILL will be shock tested in a manner consistent with the alternative “Shock Trial At An Offshore Location,” described in the Final Environmental Impact Statement (FEIS) as the proposed action. The FEIS analyzed in detail three alternative offshore areas—Mayport, Florida; Norfolk, Virginia; and Pascagoula, Mississippi. The WINSTON S. CHURCHILL will be subjected to a series of up to four 10,000-pound explosive charge detonations sometime between May 1, 2001 and September 30, 2001, conducted at a rate of one per week to allow time to perform detailed inspections of the ship's systems.

The preferred alternative is to conduct a shock trial offshore of Mayport with mitigation to minimize risk to marine mammals and turtles. Although all three test areas meet minimum operational requirements, the Norfolk and Mayport test areas rank higher operationally, whereas the Pascagoula test area is significantly less suitable for supporting the shock trial. Environmentally, the risk of impacts to marine mammals and turtles is higher in the Norfolk test area, and is lower, and about equal, at Mayport and Pascagoula. Therefore, considering all other aspects of the three candidate test areas to be about the same, conducting the shock trial at Mayport would meet the project purpose and need, satisfy operational requirements, and minimize environmental impacts. This Record of Decision leaves the selection of a single primary and two secondary test sites within the Mayport test area to be made based on aerial surveys of marine mammals and turtles done one to two days prior to the first detonation. This will ensure that the final test site selected for the shock trial poses the least possible risk to the marine environment.

Background

WINSTON S. CHURCHILL (DDG 81) is the third ship in a new flight of 23 ARLEIGH BURKE (DDG 51) class guided missile destroyers referred to as the Flight IIA ships. Each new class of ship or major upgrade must be tested to assess the survivability of the hull and the ship's systems and the capability of the ship to protect the crew after a near miss from an underwater explosion.

Section 2366 of title 10, United States Code (10 USC 2366) requires realistic survivability testing of a covered weapon system to ensure the vulnerability of that system under combat conditions is known. Realistic survivability testing means testing for the vulnerability of the ship in combat by firing munitions likely to be encountered in combat with the ship configured for combat, commonly referred to as “Live Fire Test and Evaluation” (LFT&E). The Flight IIA destroyer is a covered system because it is a major weapon system upgrade and the Navy established an approved LFT&E program to complete the vulnerability assessment of Flight IIA ships as required by 10 USC 2366. The LFT&E program includes three major areas that together provide for a complete and comprehensive evaluation of the survivability of Flight IIA ships in a near miss, underwater explosion environment. These areas are computer modeling and analysis, component testing, and an at-sea ship shock trial. Computer modeling and component tests provide valuable information regarding the survivability of the ship. However, only the at-sea shock trial would provide the real-time data necessary to fully assess ship survivability. A shock trial is a series of underwater detonations that propagate a shock wave through the ship's hull under deliberate and controlled conditions. A shock trial assesses a ship's survivability and vulnerability in combat situations by simulating near misses from underwater explosions. The Navy can then measure the effect of the shock wave on the hull, equipment, and personal safety features. This information is used to improve the shock resistance of the ship and follow-on ships of the class, thereby reducing the risk of crew injury.

Alternatives

NEPA requires Navy to evaluate a reasonable range of alternatives for implementing a proposed Federal action. The alternatives evaluated in the FEIS were no-action and conducting a shock trial at one of three potential offshore locations. Alternative offshore areas for shock testing were compared from operational and environmental perspectives. A preferred alternative was identified based on these comparisons.

Under the “no action” alternative only the computer modeling and component testing already completed under the LFT&E would be used to evaluate survivability. The no action alternative was determined to not be a reasonable alternative because it would not provide the information and data necessary to assess the survivability of the ship as required by 10 USC 2366. Therefore the “no action” alternative was not included in the comparative analysis of alternatives.

The EIS analysis focused on alternative offshore locations for a shock trial. The WINSTON S. CHURCHILL will be homeported on the East coast. Therefore, based on PERSTEMPO (Navy personnel tempo regulations requiring a ship to spend a day in homeport for every day away from homeport for crew quality of life and efficiency) considerations, offshore areas other than the East and Gulf coasts were eliminated from consideration. The Navy screened possible East Coast and Gulf of Mexico shock testing areas according to the following operational criteria: PERSTEMPO; proximity to a Naval Station with homeported ships; proximity to a Naval Air Station or other military airbase for aircraft and helicopters; proximity to a Naval Station support facility; proximity to a ship repair facility; proximity to an ordnance loading station; ship traffic; and weather and sea state. A detailed analysis concluded that three test areas could operationally support the shock trial—Mayport, Florida; Norfolk, Virginia; and Pascagoula, Mississippi. Operationally, the Norfolk and Mayport test areas rank higher and are about equal, whereas the Pascagoula test area ranks lower and is significantly less suitable for supporting the shock trial.

Potential environmental impacts of conducting a shock trial at the Mayport, Norfolk, and Pascagoula test areas were analyzed in the Environmental Consequences section of the FEIS. Most environmental impacts of the shock trial would be similar at Mayport, Norfolk, or Pascagoula. However, the three areas differ significantly with respect to potential impacts on marine mammals and sea turtles. Overall, based on the best available scientific data, the risk of mortality and injury to marine mammals and turtles would be higher at Norfolk and lower, and about equal, at Mayport and Pascagoula. Considering all components of the physical, biological, and socioeconomic environment, potential impacts would be less at Mayport or Pascagoula than at Norfolk.

Environmental Impacts

Potential environmental impacts of conducting a shock trial at the Mayport, Norfolk, and Pascagoula test areas are analyzed in the FEIS. The analysis demonstrated that most environmental impacts of the shock trial would be less than significant and were similar at Mayport, Norfolk, or Pascagoula. However, the three areas differ with respect to potential significant impacts on marine mammals and sea turtles.

Potentially significant direct impacts on marine mammals include mortality, injury, and disruption of hearing-based behaviors. Most marine mammals would be detected during pre-detonation aerial surveys, surface observations, and passive acoustic monitoring, minimizing the risk of death or injury. Application of mitigation measures would further reduce risk by allowing selection of a test site with low densities of marine mammals within each of the three test areas. Even with these mitigation measures, there are differences in risk levels among the three test areas due to differences in area-wide marine mammal densities and species composition. Overall, the risk to marine mammals would be higher at Norfolk and lower and about equal at Mayport and Pascagoula.

Potential impacts to sea turtles also include mortality, injury, and disruption of hearing-based behaviors. At Mayport, Norfolk, or Pascagoula, mitigation methods would result in selection of a test site with low densities of sea turtles. However, there are differences in risk among the three areas due to differences in sea turtle densities. Overall, the results indicate that the risk to turtles would be higher at Norfolk and lower but about equal at Mayport and Pascagoula.

Considering all components of the physical, biological, and socioeconomic environment, potential impacts would be less at Mayport or Pascagoula than at Norfolk.

Mitigation

A detailed Marine Mammal and Sea Turtle Protection/Mitigation Plan is presented in the FEIS. The plan includes the same type of mitigation and monitoring efforts that were used successfully during the shock trial of USS JOHN PAUL JONES in 1994 off the coast the southern California where marine mammal population densities are significantly greater than at the Mayport, Norfolk, or Pascagoula test areas. No deaths or injuries of marine mammals were detected during the USS JOHN PAUL JONES shock trial. The mitigation plan for the shock trial would avoid impacts and minimize risk to marine mammals and sea turtles in three ways:

Site selection. Initial, general site selection would be based on operational requirements and surveys. Within the test area selected for the shock trial, aerial surveys would be conducted and satellite imagery would be analyzed to select a small test site having low densities of marine mammals and turtles.

Pre-detonation monitoring. Prior to each detonation, aerial and shipboard observers would search for marine mammals and turtles at the selected test site. Passive acoustic surveys would also be used to detect marine mammal calls. If any marine mammal or sea turtle were detected within the Safety Range (a 2 nm radius around the detonation point), testing would be postponed. Testing would also be postponed if large.

Sargassum rafts, debris lines, or jellyfish concentrations (indicators that turtles may be present) were detected in the Safety Range, or if flocks of seabirds or large fish schools were detected within 1 nm of the detonation point. Postponement would also occur in certain circumstances when a marine mammal or turtle is detected in a Buffer Zone extending from 2 to 3 nm from the detonation point. Detonation would not occur until monitoring indicated that the Safety Range is clear of detectable marine mammals, sea turtles, large Sargassum rafts and debris lines, and large concentrations of jellyfish.

Post-detonation monitoring. After the explosion, aerial and shipboard observers would survey the test site. A Marine Animal Recovery Team led by a marine mammal veterinarian would document and attempt to recover any dead animals and monitor any animals that appear to be injured. If the survey showed that marine mammals or turtles were killed or injured or if any marine mammals or turtles are detected in the Safety Range immediately following a detonation, testing would be halted until procedures for subsequent detonations could be reviewed and changed as necessary. Communications with stranding network personnel would be maintained throughout the shock trial period.

Coordination and Consultation with the NMFS

Because the NMFS has jurisdiction by law with respect to issues related to endangered species and marine mammals, the NMFS acted as a cooperating agency on the EIS. In addition to a review and comment role, the NMFS had two regulatory roles relative to the proposed shock trail. First, the NMF is responsible for administering the Endangered Species Act as it applies to listed sea turtles and marine mammals. The DEIS served as the Biological Assessment which the Navy submitted to the NMFS, requesting formal consultation under Section 7 of the Endangered Species Act (ESA), (16 USC 1531 et seq.). The NMFS subsequently issued a Biological Opinion, dated October 10, 2000, which completed the consultation process under ESA. The NMFS also has a regulatory role under the Marine Mammal Protection Act (MMPA) (16 USC 1361 et seq.) When the DEIS was published, the Navy submitted a separate application to the NMFS for an “incidental take authorization” under section 101(a)(5)(A) of the MMPA. The NMFS published a Proposed Rule in the Federal Register on December 12, 2000 (65 FR 77546). The Proposed Rule specified mitigation, monitoring, and reporting requirements for the shock trial. A Final Rule must be issued by NMFS before the shock trial can proceed.

Comments Received on the FEIS

After the FEIS was distributed to the public for a 30-day review period ending on March 26, 2001, the Navy received one comment letter. Environmental Protection Agency commented that with properly executed mitigation as discussed in the EIS, that Mayport represents the best compromise among the three testing locations.

Conclusion

Shock testing the WINSTON S. CHURCHILL in an area offshore of Mayport, Florida is the alternative that best meets the project purpose and need, satisfies operational criteria, and minimizes environmental impacts. Potentially significant direct impacts resulting from the test include mortality, injury, and acoustic harassment of marine mammals and sea turtles. While numbers have been calculated to define the potential lethal, injurious, and harassment take that might occur, it is expected that the mitigation and monitoring program will minimize the risk to marine mammals and sea turtles.

The “No Action” alternative would avoid all environmental impacts of a shock trial and is the environmentally preferred alternative. It does not, however, support the development of the best assessment of the survivability characteristics of the ship.

Dated: April 27, 2001.
Paul A. Schneider,
Assistant Secretary of the Navy, (Research, Development and Acquisition) (Acting).

[FR Doc. 01-11270 Filed 5-3-01; 8:45 am]

BILLING CODE 3810-FF-M